FEDERAL RETIREMENT THRIFT INVESTMENT BOARD

Employee Thrift Advisory Council; Open Meeting

In accordance with section 10(a)(2) of the Federal Advisory Committee Act (Pub. L. 92-463), a notice is hereby given of the following committee meeting:

Name: Employee Thrift Advisory Council.

Time: 10:30 a.m.

Date: January 15, 2002.

Place: 4th Floor, Conference Room, Federal Retirement Thrift Investment Board, 1250 H Street, N.W., Washington, D.C.

Status: Open.

Matters to Be Considered:

1. Approve minutes of the June 27, 2000, meeting.

2. Report of the Executive Director on Thrift Savings Plan status.

3. November 15, 2001-January 31, 2002, Thrift Savings Plan Open Season.

4. Legislation.

5. New TSP record keeping system.

6. New business.

Any interested person may attend, appear before, or file statements with the Council. For further information contact Elizabeth S. Woodruff, Committee Management Officer, on (202) 942-1660.

Dated: December 27, 2001.
Elizabeth S. Woodruff,
General Counsel, Federal Retirement Thrift Investment Board.

[FR Doc. 01-32252 Filed 12-28-01; 5:23 pm]

BILLING CODE 6760-01-M